DEPARTMENT OF HEALTH AND HUMAN SERVICES

Administration for Children and Families

Submission for OMB Review; Comment Request

Title: AFIA IDA In-depth Participant Interview.

OMB No.: New Collection.

Description: Part of a Congressionally mandated evaluation of demonstrations carried out under AFIA to address the effects on savings behavior, differential savings rates, homeownership, education and self-employment. To identify lessons to be learned and whether the program should be made permanent.

Respondents: AFIA, IDA Demonstration Participants.

Annual Burden Estimates
Instrument | Number of respondents | Number of responses per respondent | Average burden hours per response | Total burden hours
In-depth Interview | 540 | 1 | 2/3 | 360

Estimated Total Annual Burden Hours: 360.

Additional Information: Copies of the proposed collection may be obtained by writing to The Administration for Children and Families, Office of Information Services, 370 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: March 1, 2001.
Bob Sargis,
Reports Clearance Officer.

[FR Doc. 01-5777 Filed 3-8-01; 8:45 am]

BILLING CODE 4184-01-M